DEPARTMENT OF HOMELAND SECURITY

[Docket No. DHS-2018-0057]

The President's National Security Telecommunications Advisory Committee

AGENCY: Department of Homeland Security.

ACTION: Committee management; notice of Federal Advisory Committee Meeting.

SUMMARY: The President's National Security Telecommunications Advisory Committee (NSTAC) will meet on Wednesday November 14, 2018, in Washington, DC. The meeting will be partially closed to the public.

DATES: The NSTAC will meet on Wednesday November 14, 2018, from 9:30 a.m. to 3:30 p.m. Eastern Time (ET). Please note that the meeting may close early if the committee has completed its business.

ADDRESSES: The November 2018 NSTAC Meeting's open session will be held at the Eisenhower Executive Office Building, Washington, DC. Due to limited seating, requests to attend in person will be accepted and processed in the order in which they are received. The meeting's proceedings will also be available via Webcast at http://www.whitehouse.gov/live, for those who cannot attend in person. Individuals who intend to participate in the meeting will need to register by sending an email to NSTAC@hq.dhs.gov by 5:00 p.m. ET on Thursday, November 8, 2018. For information on facilities or services for individuals with disabilities, or to request special assistance at the meeting, or to attend in person, contact NSTAC@hq.dhs.gov as soon as possible.

Members of the public are invited to provide comment on the issues that will be considered by the committee as listed in the SUPPLEMENTARY INFORMATION section below. Associated briefing materials that participants may discuss during the meeting will be available at www.dhs.gov/nstac for review as of Thursday, November 8, 2018. Comments may be submitted at any time and must be identified by docket number DHS-2018-0057. Comments may be submitted by one of the following methods:

• Federal eRulemaking Portal: http://www.regulations.gov. Please follow the instructions for submitting written comments.

• Email: NSTAC@hq.dhs.gov. Include the docket number DHS-2018-0057 in the subject line of the email.

• Fax: (703) 705-6190, ATTN: Sandy Benevides.

• Mail: Designated Federal Official, Stakeholder Engagement and Critical Infrastructure Resilience Division, National Protection and Programs Directorate, Department of Homeland Security, 245 Murray Lane, Mail Stop 0612, Arlington, VA 20598-0612.

Instructions: All submissions received must include the words “Department of Homeland Security” and the docket number for this action. Comments received will be posted without alteration at www.regulations.gov, including any personal information provided.

Docket: For access to the docket and comments received by the NSTAC, please go to www.regulations.gov and enter docket number DHS-2018-0057.

A public comment period will be held during the meeting on Wednesday, November 14, 2018, from 2:30 p.m. to 3:00 p.m. ET. Speakers who wish to participate in the public comment period must register in advance by no later than Thursday, November 8, 2018, at 5:00 p.m. ET by emailing NSTAC@hq.dhs.gov. Speakers are requested to limit their comments to three minutes and will speak in order of registration. Please note that the public comment period may end before the time indicated, following the last request for comments.

FOR FURTHER INFORMATION CONTACT: Helen Jackson, NSTAC Designated Federal Official, Department of Homeland Security, (703) 705-6276 (telephone) or helen.jackson@hq.dhs.gov (email).

SUPPLEMENTARY INFORMATION: Notice of this meeting is given under the Federal Advisory Committee Act (FACA), 5 U.S.C. Appendix (Pub. L. 92-463). The NSTAC advises the President on matters related to national security and emergency preparedness (NS/EP) telecommunications and cybersecurity policy.

Agenda: The committee will meet in an open session on November 14, 2018, and receive remarks from Department of Homeland Security (DHS) leadership and other senior Government officials regarding the Government's current cybersecurity initiatives and NS/EP priorities. The meeting will include a keynote address. NSTAC members will also deliberate and vote on the NSTAC Report to the President on a Cybersecurity Moonshot. The goal of this study is to examine and expedite progress against the nation's critical cybersecurity challenges. The committee examined various approaches to a cybersecurity Moonshot and developed recommendations that steer the Administration towards a shared, strategic vision and an ambitious, outcome-focused cybersecurity end-goal. Additionally , NSTAC members will receive a status update on the Advancing Resiliency and Fostering Innovation in the ICT Ecosystem study, which is examining technology capabilities that are critical to NS/EP functions in the evolving ICT ecosystem and Government measures and policy actions to manage near term risks, support innovation, and enhance vendor diversity for NS/EP-critical capabilities.

The committee will also meet in a closed session from 10:00 a.m. to 12:00 p.m. to receive a classified briefing regarding cybersecurity threats.

Basis for Closure: In accordance with 5 U.S.C. 552b(c)(1)(A) and(9)(B), The Government in the SunshineAct, it has been determined that one agenda item requires closure, as the disclosure of the information discussed would not be in the public interest.

The classified briefing and discussion will provide members with a cybersecurity threat briefing on vulnerabilities related to the communications infrastructure. Disclosure of these threats would provide criminals who seek to compromise commercial and Government networks with information on potential vulnerabilities and mitigation techniques, weakening the Nation's cybersecurity posture. This briefing will be at the classified top secret/sensitive compartmented information level, thereby exempting disclosure of the content by statute. Therefore, this portion of the meeting is required to be closed pursuant to 5 U.S.C. 552b(c)(1)(A) & (9)(B).

Dated: October 19, 2018.
Helen Jackson,
Designated Federal Officer for the NSTAC.

[FR Doc. 2018-23464 Filed 10-25-18; 8:45 am]

BILLING CODE 9110-9P-P